DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from June 29, to July 2, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: August 25, 2009.
J. Paul Loether,
Chief, National Register of Historic Places/National Historic Landmarks Program.

KEY: State, County, Property Name, Address/Boundary, City, Vicinity, Reference Number, Action, Date, Multiple Name

CONNECTICUT

Fairfield County

Restmore, 375 Warner Hill Rd., Fairfield, 09000467, Listed, 7/01/09

Hartford County

Case Brothers Historic District, 680-728 Spring St., 40 Glen Rd., and rough boundaries of Case Mountain Recreation Area and Manchester Land, Manchester, 09000468, Listed, 6/30/09

FLORIDA

Lake County

Laroe Family Homestead Historic District, 3430 W. Co. Rd. 44 & 2891 E. Orange Ave., Eustis vicinity, 09000493, Listed, 6/29/09

KENTUCKY

Pulaski County

Battle of Mill Springs Historic Areas (Boundary Increase), Four discontiguous areas; two along KY 235 and two along the Cumberland River, Nancy vicinity, 08001121, Listed, 6/29/09

MASSACHUSETTS

Berkshire County

West Stockbridge Town Hall, 9 Main St., West Stockbridge, 09000469, Listed, 7/01/09

Hampshire County

Gate Cemetery, Ireland St., Chesterfield, 09000470, Listed, 7/01/09

Ireland Street Cemetery, Ireland St., Chesterfield, 09000471, Listed, 7/01/09

MICHIGAN

Berrien County

Zinc Collar Pad Company Building, 304 S. Oak St., Buchanan, 09000472, Listed, 7/01/09

Houghton County

Chassell School Complex, 42373, 42365 N. Hancock St., Chassell, 09000473, Listed, 7/01/09

Otsego County

Johannesburg Manufacturing Company Store, 10816 M-32 E., Johannesburg, 09000475, Listed, 7/01/09

St. Joseph County

Clapp, Leverett A. and Amanda (Hampson), House, 324 W. Main St., Centreville, 09000476, Listed, 7/01/09

MISSOURI

Cole County

Munichburg Commercial Historic District, 114-130 (even only) E. Dunklin St., 610, 620 Madison St., 704 Madison St., Jefferson City, 09000477, Listed, 7/01/09 (Southside Munichburg, Missouri MPS)

NEW YORK

Columbia County

St. John's Lutheran Church, 1273 Co. Rte. 7, Ancram vicinity, 09000480, Listed, 6/30/09

Washington County

Stoops Hotel, 2839 NY 29, Battenville, 09000481, Listed, 6/30/09

NORTH CAROLINA

Guilford County

Foust-Carpenter and Dean Dick Farms, E. and W. sides of Mt. Hope Church Rd., N. and S. sides of Carpenter House Rd., Whitsett vicinity, 09000504, Listed, 7/01/09

SOUTH CAROLINA

Chester County

Lando School, Schoolhouse Rd., Lando, 09000485, Listed, 7/01/09

Greenville County

Campbell's Covered Bridge, 123 Campbell Covered Bridge Rd., Gowensville vicinity, 09000483, Listed, 7/01/09

Hampton County

Lawton, John, House, 118 3rd. St., Estill, 09000484, Listed, 7/01/09

TEXAS

Cameron County

Hicks-Gregg House, 1249 W. Washington St., Brownsville, 09000486, Listed, 7/01/09

WASHINGTON

Pierce County

Washington Building, 1019 Pacific Ave., Tacoma, 09000508, Listed, 6/29/09

WISCONSIN

Columbia County

Griswold, George, House, 146 S. Dickason Blvd., Columbus, 09000487, Listed, 7/01/09

Columbia County

Ingalsbe, Adolphus and Sarah, House, 546 Park Ave., Columbus, 09000488, Listed, 7/01/09

[FR Doc. E9-21228 Filed 9-2-09; 8:45 am]

BILLING CODE P